DEPARTMENT OF THE INTERIOR

Fish and Wildlife Service

[Docket No. FWS-HQ-IA-2021-0141; FXIA16710900000-212-FF09A30000]

Foreign Endangered Species; Receipt of Permit Applications

AGENCY: Fish and Wildlife Service, Interior.

ACTION: Notice of receipt of permit applications; request for comments.

SUMMARY: We, the U.S. Fish and Wildlife Service, invite the public to comment on applications to conduct certain activities with species that are listed as endangered under the Endangered Species Act (ESA). With some exceptions, the ESA prohibits activities with listed species unless Federal authorization is issued that allows such activities. The ESA also requires that we invite public comment before issuing permits for any activity otherwise prohibited by the ESA with respect to any endangered species.

DATES: We must receive comments by February 17, 2022.

ADDRESSES:

Obtaining Documents: The applications, application supporting materials, and any comments and other materials that we receive will be available for public inspection at http://www.regulations.gov in Docket No. FWS-HQ-IA-2021-0141.

Submitting Comments: When submitting comments, please specify the name of the applicant and the permit number at the beginning of your comment. You may submit comments by one of the following methods:

• Internet: http://www.regulations.gov. Search for and submit comments on Docket No. FWS-HQ-IA-2021-0141.

• U.S. mail: Public Comments Processing, Attn: Docket No. FWS-HQ-IA-2021-0141; U.S. Fish and Wildlife Service Headquarters, MS: PRB/3W; 5275 Leesburg Pike; Falls Church, VA 22041-3803.

For more information, see Public Comment Procedures under SUPPLEMENTARY INFORMATION.

FOR FURTHER INFORMATION CONTACT: Brenda Tapia, by phone at 703-358-2185, via email at DMAFR@fws.gov, or via the Federal Relay Service at 800-877-8339.

SUPPLEMENTARY INFORMATION:

I. Public Comment Procedures

A. How do I comment on submitted applications?

We invite the public and local, State, Tribal, and Federal agencies to comment on these applications. Before issuing any of the requested permits, we will take into consideration any information that we receive during the public comment period.

You may submit your comments and materials by one of the methods in ADDRESSES. We will not consider comments sent by email or fax, or to an address not in ADDRESSES. We will not consider or include in our administrative record comments we receive after the close of the comment period (see DATES).

When submitting comments, please specify the name of the applicant and the permit number at the beginning of your comment. Provide sufficient information to allow us to authenticate any scientific or commercial data you include. The comments and recommendations that will be most useful and likely to influence agency decisions are: (1) Those supported by quantitative information or studies; and (2) those that include citations to, and analyses of, the applicable laws and regulations.

B. May I review comments submitted by others?

You may view and comment on others' public comments at http://www.regulations.gov, unless our allowing so would violate the Privacy Act (5 U.S.C. 552a) or Freedom of Information Act (5 U.S.C. 552).

C. Who will see my comments?

If you submit a comment at http://www.regulations.gov, your entire comment, including any personal identifying information, will be posted on the website. If you submit a hardcopy comment that includes personal identifying information, such as your address, phone number, or email address, you may request at the top of your document that we withhold this information from public review. However, we cannot guarantee that we will be able to do so. Moreover, all submissions from organizations or businesses, and from individuals identifying themselves as representatives or officials of organizations or businesses, will be made available for public disclosure in their entirety.

II. Background

To help us carry out our conservation responsibilities for affected species, and in consideration of section 10(c) of the Endangered Species Act of 1973, as amended (ESA; 16 U.S.C. 1531 et seq.), we invite public comments on permit applications before final action is taken. With some exceptions, the ESA prohibits certain activities with listed species unless Federal authorization is issued that allows such activities. Permits issued under section 10(a)(1)(A) of the ESA allow otherwise prohibited activities for scientific purposes or to enhance the propagation or survival of the affected species. Service regulations regarding prohibited activities with endangered species, captive-bred wildlife registrations, and permits for any activity otherwise prohibited by the ESA with respect to any endangered species are available in title 50 of the Code of Federal Regulations in part 17.

III. Permit Applications

We invite comments on the following applications.

Endangered Species

Applicant: Lee G. Simmons Wildlife Safari Park, Omaha, NE; Permit No. 82690D

The applicant requests a permit to export two males and one female captive-born cheetah (Acinonyx jubatus) to Yokohama Zoological Park—ZOORASIA, Yokohama, Japan, for the purpose of enhancing the propagation or survival of the species. This notification is for a single export.

Applicant: Toledo Zoological Society, Toledo, OH; Permit No. PER0024280

The applicant requests a permit to export five males and five female captive-bred ring-tailed lemurs (Lemur catta) to Monarto Safari Park, Monarto South, South Australia, Australia, for the purpose of enhancing the propagation or survival of the species. This notification is for a single export.

Applicant: Jeffrey Herschbach, Rocheport, MO; Permit No. PER0021709

The applicant requests a permit to import the sport-hunted trophy of one male and one female scimitar-horned oryx (Oryx dammah) from a captive herd in Mexico, for the purpose of enhancing the propagation or survival of the species. This notification is for a single import.

Applicant: Cherokee Exotic Adventures, Richmond, TX; Permit No. 82001D

The applicant requests a captive-bred wildlife registration under 50 CFR 17.21(g) for red lechwe (Kobus leche) to enhance the propagation or survival of the species. This notification covers activities to be conducted by the applicant over a 5-year period.

Applicant: Joseph Patinio, Henderson, NV; Permit No. 78720D

The applicant requests a captive-bred wildlife registration under 50 CFR 17.21(g) for Galapagos tortoise (Geochelone nigra) and Madagascar radiated tortoise (Astrochelys radiata) to enhance the propagation or survival of the species. This notification covers activities to be conducted by the applicant over a 5-year period.

Applicant: Friends of Topeka Zoo, Inc., Topeka, KS; Permit No. PER0025129

The applicant requests a permit to export one female captive-born Sumatran tiger (Panthera tigris sumatrae) to Auckland Zoo, Auckland, New Zealand, for the purpose of enhancing the propagation or survival of the species. This notification is for a single export.

Applicant: Virginia Safari Park and Preservation Center, Inc., dba Virginia Safari Park, Natural Bridge, VA; Permit No. PER0014869

The applicant requests a permit to import one male and one female captive-bred Andean condor (Vultur gryphus) from the Peruvian Jungle, Lima, Peru, for the purpose of enhancing the propagation or survival of the species. This notification is for a single import.

Applicant: Russell Corbett-Detig, Santa Cruz, CA; Permit No. 85065D

The applicant requests authorization to import scientific specimens of northern tiger cat (Leopardus tigrinus) and Geoffroy's cat (Leopardus geoffroyi) collected in the wild in Port Alegre, Brazil, for the purpose of scientific research. This notification covers activities to be conducted by the applicant over a 5-year period.

Applicant: Lori Snook-Haas, Bolivar, OH; Permit No. PER0024437

The applicant requests a captive-bred wildlife registration under 50 CFR 17.21(g) for Madagascar radiated tortoise (Astrochelys radiata) to enhance the propagation or survival of the species. This notification covers activities to be conducted by the applicant over a 5-year period.

Applicant: Capron Park Zoo, Attleboro, MA; Permit No. 76158D

The applicant requests a captive-bred wildlife registration under 50 CFR 17.21(g) for the following species, to enhance the propagation or survival of the species. This notification covers activities to be conducted by the applicant over a 5-year period.

Common name | Scientific name
Rodrigues fruit bat | Pteropus rodricensis.
Bush-tailed rat-kangaroo | Bettongia penicillata.
Japanese crane | Grus japonensis.
Black-and-white lemur | Varecia variegata variegata.
Red ruffed lemur | Varecia rubra.
Ring-tailed lemur | Lemur catta.
Lion | Panthera leo leo.
Lion | Panthera leo melanochaita.

Applicant: University of Florida, Florida Museum of Natural History, Gainesville, FL; Permit No. PER0025774

The applicant requests authorization to export and re-import nonliving museum specimens of endangered species previously accessioned into the applicant's collection for scientific research. This notification covers activities to be conducted by the applicant over a 5-year period.

Applicant: Cherokee Exotic Adventures, Richmond, TX; Permit No. 82000D

The applicant requests a permit authorizing the culling of excess red lechwe (Kobus leche) from the captive herd maintained at their facility, to enhance the species' propagation and survival. This notification covers activities to be conducted by the applicant over a 5-year period.

IV. Next Steps

After the comment period closes, we will make decisions regarding permit issuance. If we issue permits to any of the applicants listed in this notice, we will publish a notice in the Federal Register. You may locate the notice announcing the permit issuance by searching http://www.regulations.gov for the permit number listed above in this document. For example, to find information about the potential issuance of Permit No. 12345A, you would go to regulations.gov and search for “12345A”.

V. Authority

We issue this notice under the authority of the Endangered Species Act of 1973, as amended (16 U.S.C. 1531 et seq.), and its implementing regulations.

Brenda Tapia,
Supervisor, Program Analyst/Data Administrator, Branch of Permits, Division of Management Authority.

[FR Doc. 2022-00797 Filed 1-14-22; 8:45 am]

BILLING CODE 4333-15-P